DEPARTMENT OF TRANSPORTATION

Surface Transportation Board

[STB Docket No. AB-512X and STB Docket No. AB-880X]

Sierra Pacific Industries-Abandonment Exemption Sierra Pine—Discontinuance Exemption—in Amador County, CA

On November 12, 2004, Sierra Pacific Industries (SPI) and SierraPine (collectively, petitioners) jointly filed with the Surface Transportation Board a petition under 49 U.S.C. 10502 for exemption from the provisions of 49 U.S.C. 10903. SPI seeks to abandon and SierraPine seeks to discontinue service over a line of railroad extending from milepost 0.0 at Ione, CA, to the end of the line at milepost 12.0 at Martell, CA. The line traverses United States Postal Service ZIP Codes 95640 and 95654 in Amador County, CA, and includes stations at Ione and Martell.

The line does not contain federally granted rights-of-way. Any documentation in SPI's or SierraPine's possession will be made available promptly to those requesting it.

The line to be abandoned and discontinued constitutes the entire line of railroad of SierraPine and the entire line of railroad of SPI operated pursuant to Board authority.¹ When issuing discontinuance or abandonment authority for railroad lines that constitute the carrier's entire system, the Board does not impose labor protections, except under the circumstances listed in Northampton and Bath R. Co.—Abandonment, 354 I.C.C. 784, 785-86 (1978) (Northampton).² Therefore, if the Board grants the petition for exemption, in the absence of a showing that one or more of the exceptions articulated in Northampton are present, no labor protective conditions will be imposed.

¹ The petitioners state that SPI operates two other lines of railroad, both in California, as a private and contract carrier, not as a common carrier: a 3-mile line in Plumas County, CA, serving an SPI lumber mill in Quincy, CA, and a 25-mile line between Susanville and Wendel in Lassen County, CA, leased from the Union Pacific Railroad Company, which provides private carriage to an SPI mill in Susanville and contract carriage to a millwork plant in Susanville operated by Jeld-Wen.

² See New York and Eastern Railway, LLC—Discontinuance Exemption—in Poughkeepsie, Dutchess County, NY, STB Docket No. 873X, et al. (STB served July 19, 2004), and A & R Line, Inc.-Abandonment Exemption-in Cass and Pulaski Counties, IN, STB Docket No. AB-855 (Sub-No. 1X), et al. (STB served Aug. 20, 2003).

By issuance of this notice, the Board is instituting an exemption proceeding pursuant to 49 U.S.C. 10502(b). A final decision will be issued by March 2, 2005.

Any offer of financial assistance (OFA) under 49 CFR 1152.27(b)(2) will be due no later than 10 days after service of a decision granting the exemption. Each OFA must be accompanied by a $1,200 filing fee. See 49 CFR 1002.2(f)(27).

All interested persons should be aware that, following abandonment of rail service and salvage of the line, the line may be suitable for other public use, including interim trail use. Any request for a public use condition under 49 CFR 1152.28 or for trail use/rail banking under 49 CFR 1152.29 will be due no later than December 22, 2004. Each trail use request must be accompanied by a $200 filing fee. See 49 CFR 1002.2(f)(27).

All filings in response to this notice must refer to STB Docket Nos. AB-512X and AB-880X and must be sent to: (1) Surface Transportation Board, 1925 K Street, NW., Washington, DC 20423-0001; and (2) Scott M. Zimmerman, Zuckert Scoutt & Rasenberger, 888 Seventeenth Street, NW., Suite 700, Washington, DC 20006. Replies to the petition are due on or before December 22, 2004.

Persons seeking further information concerning abandonment procedures may contact the Board's Office of Public Services at (202) 565-1592 or refer to the full abandonment or discontinuance regulations at 49 CFR part 1152. Questions concerning the environmental issues may be directed to the Board's Section of Environmental Analysis (SEA) at (202) 565-1539. (Assistance for the hearing impaired is available through the Federal Information Relay Service (FIRS) at 1-800-877-8339.)

An environmental assessment (EA) (or environmental impact statement (EIS), if necessary), prepared by SEA, will be served upon all parties of record and upon any agencies or other persons who commented during its preparation. Other interested persons may contact SEA to obtain a copy of the EA (or EIS). EAs in these abandonment proceedings normally will be available within 60 days of the filing of the petition. The deadline for submission of comments on the EA will generally be within 30 days of its service.

Board decisions and notices are available on our Web site at http://www.stb.dot.gov.

Decided: November 23, 2004.

By the Board, David M. Konschnik, Director, Office of Proceedings.

Vernon A. Williams,
Secretary.

[FR Doc. 04-26453 Filed 12-1-04; 8:45 am]

BILLING CODE 4915-01-P